DEPARTMENT OF HEALTH AND HUMAN SERVICES

Availability of the 2018 Physical Activity Guidelines Advisory Committee Scientific Report and Solicitation of Written Comments

AGENCY: Office of Disease Prevention and Health Promotion, Office of the Assistant Secretary for Health, Office of the Secretary, Department of Health and Human Services.

ACTION: Notice.

SUMMARY: The Department of Health and Human Services (HHS) (a) announces the availability of the 2018 Physical Activity Guidelines Advisory Committee Scientific Report (Scientific Report); and (b) solicits written comments on the Scientific Report.

DATES: Written comments on the Scientific Report will be accepted through 11:59 p.m. ET on April 2, 2018.

ADDRESSES: The Scientific Report is available on the internet at www.health.gov/paguidelines.

FOR FURTHER INFORMATION CONTACT: Designated Federal Officer, 2018 Physical Activity Guidelines Advisory Committee, Richard D. Olson, MD, MPH and/or Alternate Designated Federal Officer, Katrina L. Piercy, Ph.D., RD, Office of Disease Prevention and Health Promotion (ODPHP), Office of the Assistant Secretary for Health (OASH), HHS; 1101 Wootton Parkway, Suite LL-100; Rockville, MD 20852; Telephone: (240) 453-8280. Email: odphpinfo@hhs.gov. Additional information is available at www.health.gov/paguidelines.

SUPPLEMENTARY INFORMATION: The inaugural Physical Activity Guidelines for Americans (PAG), issued in 2008, was the first comprehensive guidelines on physical activity issued by the federal government. The PAG serves as the benchmark and primary, authoritative voice of the federal government for providing science-based guidance on physical activity, fitness, and health for Americans. The second edition of the PAG will build upon the first edition and provide a foundation for federal recommendations and education for physical activity programs for Americans, including those at risk for chronic disease.

Description of the Committee's Mission and Composition: The 2018 Physical Activity Guidelines Advisory Committee (Committee or PAGAC) was established to perform a single, time-limited task. The work of the Committee was solely advisory in nature. It was charged to examine the current PAG, take into consideration new scientific evidence and current resource documents, and develop a scientific report to the Secretary of HHS that outlines its science-based advice and recommendations for development of the second edition of the PAG. The Committee consisted of 17 members, who were appointed by the Secretary in June 2016. The Committee disbanded upon submission of its Scientific Report to the Secretary of HHS. Information on the Committee membership is available at www.health.gov/paguidelines/second-edition/committee/.

Written Public Comments: Written comments on the Scientific Report are encouraged from the public and will be accepted through April 2, 2018. Written public comments can be submitted and/or viewed at www.health.gov/paguidelines/pcd using the “Submit Comments” and “Read Comments” links, respectively. HHS requests that commenters provide a brief summary of the points or issues in the comment text box. If commenters are providing literature or other resources, complete citations or abstracts and electronic links to full articles or reports are preferred instead of attaching these documents to the comment. The Department does not make decisions on specific policy recommendations based on the number of comments for or against a topic, but on the scientific justification for the recommendation. All comments must be received by 11:59 p.m. ET on April 2, 2018, after which the time period for submitting written comments to the federal government expires. After submission, comments will be reviewed, processed, and then posted for public viewing.

Dated: February 21, 2018.
Don Wright,
Deputy Assistant Secretary for Health, Office of Disease Prevention and Health Promotion.

[FR Doc. 2018-04307 Filed 3-1-18; 8:45 am]

BILLING CODE 4150-32-P